DEPARTMENT OF THE INTERIOR

Bureau of Indian Affairs

Proposed Agency Information Collection Activities; Comment Request

AGENCY: Bureau of Indian Affairs, Interior.

ACTION: Notice of request for comments.

SUMMARY: In compliance with the Paperwork Reduction Act of 1995, this notice announces that an information collection request for Bureau of Indian Affairs (BIA) Form 4432, Verification of Indian Preference for Employment in the BIA and the Indian Health Service (IHS), OMB Control No. 1076-0160, needs renewal. The BIA is now seeking comments from interested parties to renew the clearance.

DATES: Written comments must be submitted by December 6, 2004.

ADDRESSES: Written comments are to be mailed or hand delivered to Daisy West, Acting Chief, Division of Tribal Government Services, Office of Tribal Services, Bureau of Indian Affairs, 1951 Constitution Avenue, NW., MS-320-SIB, Washington, DC 20240; Telephone: (202) 513-7641.

FOR FURTHER INFORMATION CONTACT: Carolyn Newman, (202) 513-7641.

SUPPLEMENTARY INFORMATION:

I. Abstract

The purpose of the Indian Preference Form is to encourage qualified Indians to seek preference in employment with the BIA and the IHS. BIA collects information under the proposed regulations to ensure compliance with Indian preference hiring requirements.

II. Method of Collection

The information collection relates only to individuals applying for employment with the BIA and the IHS. The tribe's involvement is limited to verifying membership information submitted by the applicant.

III. Data

Title of the collection of information: Verification of Indian Preference for Employment in the BIA and IHS Form.

Type of review: Renewal of Indian Preference for Employment in the BIA and IHS Form.

Summary of the collection of information: The collection of information provides that certain persons who are of Indian descent receive preference when appointments are made to vacancies in positions with the BIA and IHS as well as in any unit that has been transferred intact from the BIA to a Bureau or office within the Department of the Interior or the Department of Health and Human Services and that continues to perform the functions formerly performed as part of the BIA or IHS. You are eligible for preference if (a) you are a member of a federally recognized Indian tribe; (b) you are a descendant of a member and you were residing within the present boundaries of any Indian reservation on June 1, 1934; (c) you are an Alaska Native; or (d) you possess one-half degree Indian blood derived from tribes that are indigenous to the United States.

Description of the need for the information and proposed use of the information: The information is submitted in order to retain a benefit, namely, preference in employment with the BIA and IHS.

Affected entities: Qualified Indian applicants and the tribe's involvement in verifying membership information submitted by the applicant.

Estimated number of respondents: Approximately a total of 5,000 applications for preference in employment are received annually by the BIA field offices.

Proposed frequency of responses: On occasion as needed.

Burden: The average burden of submitting an Indian Preference Form is 30 minutes including time for reviewing instructions, searching data sources and assembling the information needed. We estimate that the annual public burden is 2,500 hours.

Estimated cost: There are no costs to consider, except postage and the cost of duplicating the original verification form, because verification of the information is already available for other reasons. The form will be used by an applicant to seek documentation of Indian descent or membership from either a tribal official or the BIA.

IV. Request for Comments

The Department of the Interior invites comments on:

(a) Whether the collection of information is necessary for the proper performance of the functions of the BIA, including whether the information will have practical utility;

(b) The accuracy of the BIA's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

Comments submitted in response to this notice will be summarized and/or included in the request for OMB approval of this information collection. They also will become a matter of public record.

All written comments will be available for public inspection in Room 320 of the South Interior Building, 1951 Constitution Avenue, NW., Washington, DC from 9 a.m. until 3 p.m., Monday through Friday, excluding legal holidays. If you wish to have your name and address withheld from public view, you must state this prominently at the beginning of your comments. We will honor your request to the extent allowable by law. There may be instances when we will withhold comments from the public for other reasons. Comments submitted by businesses or business representatives will be made available for public review.

An agency may not conduct or sponsor, and a person is not required to respond to, a collection of information, unless it displays a currently valid Office of Management and Budget control number.

Dated: September 28, 2004.
David W. Anderson,
Assistant Secretary—Indian Affairs.

[FR Doc. 04-22455 Filed 10-5-04; 8:45 am]

BILLING CODE 4310-4J-P